SECURITIES AND EXCHANGE COMMISSION

[File No. 500-1]

American Healthcare Providers, Inc.; Order of Suspension of Trading

June 15, 2000.

It appears to the Securities and Exchange Commission that there is a lack of current and accurate information concerning the securities of American Healthcare Providers, Inc. (“American Healthcare”) because of questions regarding the accuracy of assertions by American Healthcare, and by others, in press releases concerning, among other things, a contract entered into by American Healthcare.

The Commission is of the opinion that the public interest and the protection of investors require a suspension of trading in the securities of the above listed company.

Therefore, it is ordered, pursuant to Section 12(k) of the Securities Exchange Act of 1934, that trading in the above listed company is suspended for the period from 9:30 a.m. EDT, on Thursday, June 15, 2000 through 11:59 p.m. EDT, on Wednesday, June 28, 2000.

By the Commission.
Margaret H. McFarland,
Deputy Secretary.

[FR Doc. 00-15488 Filed 6-15-00; 1:48 pm]

BILLING CODE 8010-01-M